DEPARTMENT OF ENERGY

Federal Energy Regulatory Commission

Combined Notice of Filings #1

Take notice that the Commission received the following electric corporate filings:

Docket Numbers: EC15-178-000.

Applicants: Chevron Power Holdings Inc., Coalinga Cogeneration Company, Kern River Cogeneration Company, Mid-Set Cogeneration Company, Salinas River Cogeneration Company, Sargent Canyon Cogeneration Company, Sycamore Cogeneration Company.

Description: Application for Authorization for Disposition and Consolidation of Jurisdictional Facilities and Acquisition of Existing Generation Facilities and Request for Expedited Action of Chevron Power Holdings Inc., et al.

Filed Date: 7/29/15.

Accession Number: 20150729-5188.

Comments Due: 5 p.m. ET 8/19/15.

Take notice that the Commission received the following electric rate filings:

Docket Numbers: ER14-2626-002.

Applicants: Southern California Edison Company.

Description: Compliance filing: SCE Compliance Filing June 29 2015 FERC Order re Order No. 792 to be effective 11/1/2014.

Filed Date: 7/29/15.

Accession Number: 20150729-5112.

Comments Due: 5 p.m. ET 8/19/15.

Docket Numbers: ER15-1571-002.

Applicants: Midcontinent Independent System Operator, Inc.

Description: Compliance filing: 2015-07-30 NCA BCA RSG Mitigation Compliance Filing to be effective 6/30/2015.

Filed Date: 7/30/15.

Accession Number: 20150730-5037.

Comments Due: 5 p.m. ET 8/20/15.

Docket Numbers: ER15-1937-001.

Applicants: PJM Interconnection, L.L.C., Old Dominion Electric Cooperative.

Description: Compliance filing: Compliance Filing per 7/15/15 Order in Docket No. ER15-1937-000 to be effective 6/1/2015.

Filed Date: 7/29/15.

Accession Number: 20150729-5137.

Comments Due: 5 p.m. ET 8/19/15.

Docket Numbers: ER15-2009-000.

Applicants: 2015 ESA Project Company, LLC.

Description: Supplement to June 26, 2015—2015 ESA Project Company, LLC tariff filing under ER15-2009.

Filed Date: 7/29/15.

Accession Number: 20150729-5184.

Comments Due: 5 p.m. ET 8/12/15.

Docket Numbers: ER15-2062-001.

Applicants: Consumers Energy Company.

Description: Compliance filing: Amend Cost-Based Tariff to be effective 7/31/2015.

Filed Date: 7/30/15.

Accession Number: 20150730-5001.

Comments Due: 5 p.m. ET 8/20/15.

Docket Numbers: ER15-2296-000.

Applicants: Midcontinent Independent System Operator, Inc.

Description: Section 205(d) Rate Filing: 2015-07-29_SA 2693 NSP-Black Oak Wind 3rd Rev GIA (G858/H071) to be effective 7/30/2015.

Filed Date: 7/29/15.

Accession Number: 20150729-5069.

Comments Due: 5 p.m. ET 8/19/15.

Docket Numbers: ER15-2297-000.

Applicants: Southwest Power Pool, Inc.

Description: Section 205(d) Rate Filing: Regulation Deployment Clarification to be effective 9/28/2015.

Filed Date: 7/29/15.

Accession Number: 20150729-5121.

Comments Due: 5 p.m. ET 8/19/15.

Docket Numbers: ER15-2298-000.

Applicants: PacifiCorp.

Description: Section 205(d) Rate Filing: BPA General Transfer Agreement (West) Rev 5 to be effective 1/7/2015.

Filed Date: 7/29/15.

Accession Number: 20150729-5140.

Comments Due: 5 p.m. ET 8/19/15.

Docket Numbers: ER15-2299-000.

Applicants: ITC Midwest LLC.

Description: Section 205(d) Rate Filing: Filing of Transmission Operator Function Agreements to be effective 9/28/2015.

Filed Date: 7/29/15.

Accession Number: 20150729-5141.

Comments Due: 5 p.m. ET 8/19/15.

Docket Numbers: ER15-2300-000.

Applicants: PJM Interconnection, L.L.C.

Description: Section 205(d) Rate Filing: First Revised WMPA Service Agreement No. 4066, Queue No. Y1-079 to be effective 7/2/2015.

Filed Date: 7/29/15.

Accession Number: 20150729-5152.

Comments Due: 5 p.m. ET 8/19/15.

Docket Numbers: ER15-2301-000.

Applicants: Pacific Gas and Electric Company.

Description: Section 205(d) Rate Filing: CCSF IA—50th Quarterly Filing of Facilities Agreements to be effective 6/29/2015.

Filed Date: 7/30/15.

Accession Number: 20150730-5000.

Comments Due: 5 p.m. ET 8/20/15.

Docket Numbers: ER15-2302-000.

Applicants: Midcontinent Independent System Operator, Inc.

Description: Section 205(d) Rate Filing: 2015-07-30_SA 2822 MidAmerican Energy-Highland Wind Energy II E&P (J285) to be effective 7/31/2015.

Filed Date: 7/30/15.

Accession Number: 20150730-5032.

Comments Due: 5 p.m. ET 8/20/15.

Docket Numbers: ER15-2303-000.

Applicants: Midcontinent Independent System Operator, Inc.

Description: Section 205(d) Rate Filing: 2015-07-30_SA 2823 MidAmerican Energy-Ida Grove Wind Energy E&P (J411) to be effective 7/31/2015.

Filed Date: 7/30/15.

Accession Number: 20150730-5040.

Comments Due: 5 p.m. ET 8/20/15.

Docket Numbers: ER15-2304-000.

Applicants: Oildale Energy LLC.

Description: Baseline eTariff Filing: Application for Initial Market-Base Rate Tariff and Granting Certain Waivers to be effective 7/31/2015.

Filed Date: 7/30/15.

Accession Number: 20150730-5058.

Comments Due: 5 p.m. ET 8/20/15.

Docket Numbers: ER15-2305-000.

Applicants: VECO Power Trading, LLC.

Description: Section 205(d) Rate Filing: Notice of Succession and Revisions to Market-Based Rate Tariff to be effective 7/31/2015.

Filed Date: 7/30/15.

Accession Number: 20150730-5068.

Comments Due: 5 p.m. ET 8/20/15.

Docket Numbers: ER15-2306-000.

Applicants: DC Energy, LLC.

Description: Section 205(d) Rate Filing: Revisions to Market-Based Rate Tariff to be effective 7/31/2015.

Filed Date: 7/30/15.

Accession Number: 20150730-5069.

Comments Due: 5 p.m. ET 8/20/15.

Docket Numbers: ER15-2307-000.

Applicants: DC Energy Midwest, LLC.

Description: Section 205(d) Rate Filing: Revisions to Market-Based Rate Tariff to be effective 7/31/2015.

Filed Date: 7/30/15.

Accession Number: 20150730-5072.

Comments Due: 5 p.m. ET 8/20/15.

Take notice that the Commission received the following land acquisition reports:

Docket Numbers: LA15-2-000.

Applicants: Beech Ridge Energy LLC, Beech Ridge Energy II LLC, Beech Ridge Energy Storage LLC, Bishop Hill Energy LLC, Bishop Hill Energy III LLC, California Ridge Wind Energy LLC, Buckeye Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Grays Harbor Energy LLC, Hardee Power Partners Limited, Invenergy Cannon Falls LLC, Invenergy Nelson LLC, Invenergy TN LLC, Judith Gap Energy LLC, Prairie Breeze Wind Energy LLC, Prairie Breeze Wind Energy II LLC, Sheldon Energy LLC, Spindle Hill Energy LLC, Spring Canyon Energy LLC, Stony Creek Energy LLC, Vantage Wind Energy LLC, Willow Creek Energy LLC, Wolverine Creek Energy LLC.

Description: Quarterly Land Acquisition Report of Beech Ridge Energy LLC, et al.

Filed Date: 7/30/15.

Accession Number: 20150730-5054.

Comments Due: 5 p.m. ET 8/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2015.
Nathaniel J. Davis, Sr.,
Deputy Secretary.

[FR Doc. 2015-19299 Filed 8-5-15; 8:45 am]

BILLING CODE 6717-01-P